DEPARTMENT OF ENERGY

Federal Energy Regulatory Commission

[Docket No. CP97-169-004]

Alliance Pipeline L.P.; Notice of Application

December 1, 2004.

On November 23, 2004, Alliance Pipeline L.P. (Alliance), pursuant to section 3 of the Natural Gas Act (NGA), and Subparts B and C of Part 153 of the Federal Energy Regulatory Commission's (Commission) regulations under the NGA filed an application to amend its Presidential Permit (Permit) to reflect the actual peak day capacity of the authorized border-crossing facilities between the United States and Canada. The current Permit, issued on June 13, 2002, 99 FERC 61,313 (2002), indicates a peak capacity of 1.8 Billion cubic feet per day (Bcfd). The proposed amendment would have the Permit reflect actual operating experience and results of recent engineering analyses not currently reflected in the Permit, all as more fully set forth in the application, which is on file with the Commission, and open for public inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

Alliance requests that the Commission amend the Presidential Permit to reflect the actual peak day capacity, a flow which could occur in very limited circumstances, of 1.875 Bcfd, inclusive of fuel, for the authorized border-crossing facilities. No new rates or rate schedules are proposed. The facilities will continue to provide improved access to supplies of natural gas and improve the dependability of international energy trade. No changes are proposed to the currently authorized facilities.

Questions regarding the application may be directed to: Dennis Prince, Vice President, Transportation Services and Business Development, Alliance Pipeline L.P., 6385 Old Shady Oak Road, Eden Prairie, Minnesota 55344-3252 or call (952) 983-1000; and, William A. Williams and James P. White at Fulbright & Jaworski L.L.P., Market Square, 801 Pennsylvania Avenue, NW., Washington, DC 20004-2604 or call (202) 662-0200.

There are two ways to become involved in the Commission's review of this project. First, any person wishing to obtain legal status by becoming a party to the proceedings for this project should, on or before the comment date below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper; see 18 CFR 385.2001(a)(1)(iii) and the instructions on the Commission's Web site under the “e-Filing” link.

Comment Date: December 21, 2004.

Magalie R. Salas,
Secretary.

[FR Doc. E4-3503 Filed 12-6-04; 8:45 am]

BILLING CODE 6717-01-P